DEPARTMENT OF ENERGY

Federal Energy Regulatory Commission

Combined Notice of Filings #1

Take notice that the Commission received the following exempt wholesale generator filings:

Docket Numbers: EG22-208-000.

Applicants: Hunt Energy Network Land Company, L.L.C.

Description: Hunt Energy Network Land Company, L.L.C. submits Notice of Self-Certification of Exempt Wholesale Generator Status.

Filed Date: 8/22/22.

Accession Number: 20220822-5089.

Comment Date: 5 p.m. ET 9/12/22.

Docket Numbers: EG22-209-000.

Applicants: HEN Infrastructure, L.L.C.

Description: HEN Infrastructure, L.L.C. submits Notice of Self-Certification of Exempt Wholesale Generator Status.

Filed Date: 8/22/22.

Accession Number: 20220822-5091.

Comment Date: 5 p.m. ET 9/12/22.

Take notice that the Commission received the following Complaints and Compliance filings in EL Dockets:

Docket Numbers: EL21-77-000.

Applicants: Tenaska Clear Creek Wind, LLC v. Southwest Power Pool, Inc.

Description: Southwest Power Pool, Inc. submits Revised Network Upgrade Costs.

Filed Date: 8/16/22.

Accession Number: 20220816-5123.

Comment Date: 5 p.m. ET 8/26/22.

Take notice that the Commission received the following electric rate filings:

Docket Numbers: ER22-2698-000.

Applicants: SESCO Enterprises Canada Ltd.

Description: Notice of Cancellation of Market Based Rate Tariff and Request for Waiver of SESCO Enterprises Canada, Ltd.

Filed Date: 8/19/22.

Accession Number: 20220819-5197.

Comment Date: 5 p.m. ET 9/9/22.

Docket Numbers: ER22-2699-000.

Applicants: Midcontinent Independent System Operator, Inc.

Description: § 205(d) Rate Filing: 2022-08-22_SA 3391 Ameren IL-Maple Flats Solar Energy Center 2nd Rev GIA (J813) to be effective 8/15/2022.

Filed Date: 8/22/22.

Accession Number: 20220822-5045.

Comment Date: 5 p.m. ET 9/12/22.

Docket Numbers: ER22-2700-000.

Applicants: California Independent System Operator Corporation.

Description: § 205(d) Rate Filing: 2022-08-22 Reliability Demand Response Resource—Phase 2 to be effective 12/31/9998.

Filed Date: 8/22/22.

Accession Number: 20220822-5141.

Comment Date: 5 p.m. ET 9/12/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 22, 2022.
Kimberly D. Bose,
Secretary.

[FR Doc. 2022-18420 Filed 8-25-22; 8:45 am]

BILLING CODE 6717-01-P